DEPARTMENT OF THE TREASURY

Office of the Comptroller of the Currency

[OCC Charter Number 703519]

Home Federal Savings and Loan Association of Grand Island, Grand Island, Nebraska; Approval of Conversion Application

Notice is hereby given that on August 14, 2023, the Office of the Comptroller of the Currency (OCC) approved the application of Home Federal Savings and Loan Association of Grand Island, Grand Island, Nebraska, to convert to the stock form of organization. Copies of the application are available on the OCC website at the FOIA Reading Room (https://foia-pal.occ.gov/palMain.aspx) under Mutual to Stock Conversion Applications. If you have any questions, please contact Licensing Activities at (202) 649-6260.

(Authority: 12 CFR 192.205).

Dated: August 14, 2023.
By the Office of the Comptroller of the Currency.
Stephen A. Lybarger,
Deputy Comptroller for Licensing.

[FR Doc. 2023-18006 Filed 8-21-23; 8:45 am]

BILLING CODE 4810-33-P